COMMISSION ON CIVIL RIGHTS

Advisory Committees Expiration; Correction

AGENCY: United States Commission on Civil Rights.

ACTION: Solicitation of applications; correction.

SUMMARY: The U.S. Commission on Civil Rights published a document in the Federal Register of March 9, 2016, concerning the solicitation of applications for membership on the Nebraska, Hawaii, and California Advisory Committees. The document contained incorrect dates.

FOR FURTHER INFORMATION CONTACT: David Mussatt, Chief, Regional Programs Unit, 55 W. Monroe St., Suite 410, Chicago, IL 60603, (312) 353-8311.

Correction

In the Federal Register of March 9, 2016, in FR Doc. 2016-05193, on pages 12458-12459, in the second column, correct the first sentence of the second paragraph of the “Summary” caption to read:

Because the terms of the members of the Hawaii Advisory Committee are expiring on June 19, 2016, the United States Commission on Civil Rights hereby invites any individual who is eligible to be appointed to apply.

In the Federal Register of March 9, 2016, in FR Doc. 2016-05193, on pages 12458-12459, in the second column, correct the first sentence of the third paragraph of the “Summary” caption to read:

Because the terms of the members of the California Advisory Committee are expiring on June 19, 2016, the United States Commission on Civil Rights hereby invites any individual who is eligible to be appointed to apply.

Dated March 28, 2016.
David Mussatt,
Chief, Regional Programs Unit.

[FR Doc. 2016-07301 Filed 3-31-16; 8:45 am]

BILLING CODE 6335-01-P